DEPARTMENT OF COMMERCE

National Oceanic and Atmospheric Administration

[RTID 0648-XD612]

North Pacific Fishery Management Council; Public Meeting

AGENCY: National Marine Fisheries Service (NMFS), National Oceanic and Atmospheric Administration (NOAA), Commerce.

ACTION: Notice of web conference.

SUMMARY: The North Pacific Fishery Management Council (Council) Joint Groundfish Plan Teams will meet on January 17, 2024.

DATES: The meeting will be held on Wednesday, January 17, 2024, from 8 a.m. to 12 p.m., Alaska time.

ADDRESSES: The meeting will be a web conference. Join online through the link at https://meetings.npfmc.org/Meeting/Details/3031.

Council address: North Pacific Fishery Management Council, 1007 W 3rd Ave., Suite 400, Anchorage, AK 99501-2252; telephone: (907) 271-2809. Instructions for attending the meeting via video conference are given under SUPPLEMENTARY INFORMATION, below.

FOR FURTHER INFORMATION CONTACT: Sara Cleaver, Council staff; email: sara.cleaver@noaa.gov or Diana Stram, Council staff; email: diana.stram@noaa.gov.

For technical support, please contact our administrative staff; email: npfmc.admin@noaa.gov.

SUPPLEMENTARY INFORMATION:

Agenda

Wednesday, January 17, 2024

The Joint Groundfish Plan Teams will be reviewing research priorities to provide recommendations to the SSC at the February 2024 meeting. The agenda is subject to change, and the latest version will be posted at https://meetings.npfmc.org/Meeting/Details/3031 prior to the meeting, along with meeting materials.

Connection Information

You can attend the meeting online using a computer, tablet, or smart phone; or by phone only. Connection information will be posted online at: https://meetings.npfmc.org/Meeting/Details/3031.

Public Comment

Public comment letters will be accepted and should be submitted electronically to https://meetings.npfmc.org/Meeting/Details/3031.

Authority: 16 U.S.C. 1801 et seq.

Dated: December 22, 2023.
Diane M. DeJames-Daly,
Acting Deputy Director, Office of Sustainable Fisheries, National Marine Fisheries Service.

[FR Doc. 2023-28841 Filed 12-29-23; 8:45 am]

BILLING CODE 3510-22-P